FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Deluxe Shipping Inc., 251-14 Northern Blvd., Little Neck, NY 11362, Officers: Daniel A. Recupero, Secretary (Qualifying Individual), Sharon R. Mestanza, Director.

Trans World Logistec, Inc., 1 SKC Drive, Covington, GA 30014, Officers: Seon Oh Kim, President (Qualifying Individual), Hong Il Kim, Secretary.

Non-Vessel Operating Common Carrier and Ocean Freight Forwarder Transportation Intermediary Applicants

Tri-Best Logistics, Inc., 6131 Orangethorpe Avenue, Buena Park, CA 90620, Officers: Richard U. Cho, Secretary (Qualifying Individual), Paul Kim, President.

Amass International Group Inc., 1730 Park Lawn Road, Hacienda Heights, CA 91745, Officers: Danny Tam, Director (Qualifying Individual), Garrisun GE, President.

Sahara Cargo LLC, 5401 Rampart St., Houston, TX 77081, Officers: Hisham Mohamed Ahmed, Gen. Manager (Qualifying Individual), Mercedes C. Martinez, Asst. Manager.

Ocean Freight Forwarder—Ocean Transportation Intermediary Applicants

Casalink dba Casalink Transit, 52 Southgate Road, Franklin, MA 02038, Nidal Brahimi, Sole Proprietor, American Export/Import and Purchasing dba Direct Shipping, 6834 NW 77th Court, Miami, FL 33166, Officers: Oswaldo Perez, President (Qualifying Individual), Gabriela Villalta, Secretary.

Dated: December 7, 2007.
Karen V. Gregory,
Assistant Secretary.

[FR Doc. E7-24096 Filed 12-11-07; 8:45 am]

BILLING CODE 6730-01-P